FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011383-039.

Title: Venezuelan Discussion Agreement.

Parties: A.P. Moller-Maersk A/S, Hamburg-Süd, Seaboard Marine Ltd., King Ocean Service de Venezuela, and SeaFreight Line.

Filing Party: Wayne R. Rohde, Esq.; Sher & Blackwell LLP; 1850 M Street, NW., Suite 900; Washington, DC 20036.

Synopsis: The amendment removes Maersk as a party to the agreement.

Agreement No.: 011550-010.

Title: ABC Discussion Agreement.

Parties: A.P. Moller-Maersk A/S, Hamburg-Süd, King Ocean Services Limited, and Seafreight Line.

Filing Party: Wayne R. Rohde, Esq.; Sher & Blackwell LLP; 1850 M Street, NW., Suite 900; Washington, DC 20036.

Synopsis: The amendment removes Maersk as a party to the agreement.

Agreement No.: 011898-001.

Title: APS Joint Service Agreement.

Parties: BBC Chartering & Logistic GmbH & Co. KG (“BBC”), Clipper Elite Carriers Ltd. (“Clipper”) and Asia Project Services Ltd. (“APS”).

Filing Party: Matthew Thomas, Esq.; Troutman Sanders LLP; 401 9th Street, NW., Suite 1000; Washington, DC 20004-2134.

Synopsis: The amendment clarifies the parties' authority to discuss and agree on rates, charges, and services outside of the joint service. The parties request expedited review.

Agreement No.: 200694-003.

Title: Crane Relocation Agreement.

Parties: Horizon Lines, LLC; Matson Navigation Company, Inc.; and The Port Authority of Guam.

Filing Party: Claudia E. Stone, Esq.; Horizon Lines, LLC; 4064 Colony Road, Suite 200; Charlotte, NC 28211.

Synopsis: The amendment provides for the assignment of SL Service Inc.”s (formerly Sea-Land Service, Inc.) rights and obligations under the agreement to Horizon Lines.

By Order of the Federal Maritime Commission.
Dated: July 8, 2005.
Karen V. Gregory, Assistant Secretary.

[FR Doc. 05-13794 Filed 7-12-05; 8:45 am]

BILLING CODE 6730-01-P